DEPARTMENT OF TRANSPORTATION

Federal Aviation Administration

Proposed Modification of the Atlanta, GA, Class B Airspace Area; Public Meetings

AGENCY: Federal Aviation Administration (FAA), DOT.

ACTION: Notice of meetings.

SUMMARY: This notice announces four fact-finding informal airspace meetings to solicit information from airspace users and others, concerning a proposal to revise Class B airspace at Atlanta, GA. The purpose of these meetings is to provide interested parties an opportunity to present views, recommendations, and comments on the proposal. All comments received during these meetings will be considered prior to any issuance of a notice of proposed rulemaking.

DATES: The informal airspace meetings will be held on Monday, February 22, 2010; Thursday, February 25, 2010; Monday, March 1, 2010; and Thursday, March 4, 2010. All meetings will run from 3 p.m. until 8:30 p.m. Comments must be received on or before April 3, 2010.

ADDRESSES: (1) The meeting on Monday, February 22, 2010, will be held at the Cobb Co. PD, Precinct 1, 2380 North Cobb Parkway, Kennessaw, GA 30152 [Call 770-499-4181 for directions]; (2) The meeting on Thursday, February 25, 2010, will be held at the City of Covington City Hall, 2116 Stallings Street NW., Covington, GA 30014 [Call 770-385-2022 for directions]; (3) The meeting on Monday, March 1, 2010, will be held at the Chamblee Civic Center, 3540 Broad Street, Chamblee, GA 30341 [Call 770-986-5016 for directions]; and (4) the meeting on Thursday, March 4, 2010, will be held at Peachtree City Falcon Field, 7 Falcon Drive, Peachtree City, GA 30269 [Call 770-487-2225 for directions].

Comments: Send comments on the proposal, in triplicate, to: Mark Ward, Manager, Operations Support Group, Eastern Service Area, Air Traffic Organization, Federal Aviation Administration, P.O. Box 20636, Atlanta, GA 30320.

FOR FURTHER INFORMATION CONTACT: Mike Richardson, Support Manager, Atlanta TRACON, 784 South Highway 74, Peachtree City, GA; telephone: (678) 364-6306.

SUPPLEMENTARY INFORMATION:

Meeting Procedures

(a) The meetings will be informal in nature and will be conducted by one or more representatives of the FAA Eastern Service Area. A representative from the FAA will present a briefing on the planned Class B airspace area modification. Each participant will be given an opportunity to deliver comments or make a presentation, although a time limit may be imposed. Only comments concerning the plan to modify the Atlanta Class B airspace will be accepted.

(b) The meetings will be open to all persons on a space-available basis. There will be no admission fee or other charge to attend and participate.

(c) Any person wishing to make a presentation to the FAA panel will be asked to sign in and estimate the amount of time needed for such presentation. This will permit the panel to allocate an appropriate amount of time for each presenter. These meetings will not be adjourned until everyone on the list has had an opportunity to address the panel.

(d) Position papers or other handout material relating to the substance of these meetings will be accepted. Participants wishing to submit handout material should present an original and two copies (3 copies total) to the presiding officer. There should be additional copies of each handout available for other attendees.

(e) These meetings will not be formally recorded. However, a summary of comments made at the meetings will be filed in the docket.

Agenda for the Meetings

—Sign-in.

—Presentation of Meeting Procedures.

—Informal Presentation of the planned Class B Airspace area Modification.

—Public Presentations and Discussions.

—Closing Comments.

At all meetings, the informal presentation will be conducted at 3 p.m., 5 p.m., and again at 7 p.m. Each presentation will be the same, so attendees may arrive at any time at their convenience, and it will not be necessary to remain until the end. Following each presentation there will be time for questions and presentations by attendees.

Issued in Washington, DC, on November 23, 2009.
Edith V. Parish,
Manager, Airspace and Rules Group.

[FR Doc. E9-28900 Filed 12-3-09; 8:45 am]

BILLING CODE 4910-13-P